ENVIRONMENTAL PROTECTION AGENCY

40 CFR Part 300

[FRL-7908-5]

National Oil and Hazardous Substances Pollution Contingency Plan; National Priorities List

AGENCY: Environmental Protection Agency.

ACTION: Final Notice of Partial Deletion at the Peterson/Puritan, Inc. Site from the National Priorities List.

SUMMARY: The Environmental Protection Agency (EPA) Region 1 announces the partial deletion of a portion of the Peterson/Puritan, Inc. Superfund Site (the Site), owned by Macklands Realty, Inc. and Berkeley Realty, Co. (herein Macklands and Berkeley properties), from the National Priorities List (NPL). The NPL constitutes Appendix B to the National Oil and Hazardous Substances Pollution Contingency Plan (NCP), 40 CFR part 300, which EPA promulgated pursuant to section 105 of the Comprehensive Environmental Response, Compensation, and Liability Act (CERCLA). EPA, with concurrence from the State of Rhode Island, has determined that the release impacting the Site poses no significant threat to human health or the environment at the Macklands and Berkeley properties and therefore warrants no current response action at the properties. Further, this action does not preclude the State of Rhode Island from taking any response actions under State authority, should future conditions warrant such actions. This notice of partial deletion does not alter the status of the remainder of the Peterson/Puritan, Inc. Superfund Site, which has not been proposed for deletion and thus remains on the NPL.

DATES: Effective Date: May 9, 2005.

FOR FURTHER INFORMATION CONTACT: David J. Newton, Remedial Project Manager, U.S. EPA Region I, 1 Congress St., Suite 1100 (HBO), Boston, MA 02114-2023, (617) 918-1243.

SUPPLEMENTARY INFORMATION: The site to be partially deleted from the NPL is: A portion of two properties designated on the town of Cumberland Tax Assessor's Map Plat 14, Lot 2 and Plat 15, Lot 1, known locally as the proposed Berkeley Commons and River Run developments, and owned by Macklands Realty, Inc. and Berkeley Realty, Co. respectively. This partial deletion involves 19.8 acres designated within the OU 2 boundary of the Peterson/Puritan, Inc. Superfund site.

A Notice of Intent to Delete for these parcels at this site was published on February 24, 2005 (70 FR 9023-9028). The closing date for comments on the Notice of Intent to Delete was March 28, 2005. EPA received no comments.

EPA identifies sites that appear to present a significant risk to public health, welfare, or the environment and maintains the NPL as the list of these sites. Sites on the NPL may be the subject of remedial actions financed by the Hazardous Substance Superfund Response Trust Fund (Fund). Pursuant to § 300.425(e)(3) of the NCP, any site (or portion thereof) deleted from the NPL are eligible for further remedial actions should future conditions warrant such action.

List of Subjects in 40 CFR Part 300

Environmental protection, Chemicals, Hazardous substances, Hazardous waste, Intergovernmental relations, Natural resources, Penalties, Reporting and recordkeeping requirements, Superfund, Water pollution control, Water supply.

Dated: April 28, 2005.
Robert W. Varney,
Regional Administrator, U.S. Environmental Protection Agency, Region 1.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B to Part 300—[Amended]

2. Table 1 of Appendix B to part 300 is amended by adding “P” in the Notes column in the entry for Peterson/Puritan, Inc., Lincoln/Cumberland, RI.

[FR Doc. 05-9084 Filed 5-6-05; 8:45 am]

BILLING CODE 6560-50-P